ENVIRONMENTAL PROTECTION AGENCY

40 CFR Part 52

[EPA-R01-OAR-2005-ME-0008; A-1-FRL-8526-4]

Approval and Promulgation of Air Quality Implementation Plans; Maine; Open Burning Rule

AGENCY: Environmental Protection Agency (EPA).

ACTION: Proposed rule.

SUMMARY: EPA is proposing to approve a State Implementation Plan (SIP) revision submitted by the State of Maine. This revision limits open burning of construction and demolition debris to on-site burning for the disposal of wood wastes and painted and unpainted wood, and adds restrictions to open burning conducted for training, research and recreational purposes. The revised rule also defines which open-burning recreational activities do not require a permit, such as residential use of outdoor grills and fireplaces, and recreational campfires while the ground is covered in snow. The revised rule eliminates provisions that allowed permits to be issued for open burning of rubbish where no rubbish collection is available or “reasonably located” and where “there is no other suitable method for disposal.” In addition, the revised rule includes a reference to reasonable precautions required by Maine statute 38 MRSA section 1296 to prevent the introduction of lead into the environment from lead-based paint. This action will have a beneficial effect on air quality in Maine by reducing emissions of particulate matter, air toxics, and other pollutants, especially from the burning of lead-painted wood, plastics, metals, and other non-wood materials. This action is being taken in accordance with the Clean Air Act.

DATES: Written comments must be received on or before March 24, 2008.

ADDRESSES: Submit your comments, identified by Docket ID No. EPA-R01-OAR-2005-ME-0008 by one of the following methods:

1. www.regulations.gov: Follow the on-line instructions for submitting comments.

2. E-mail: arnold.anne@epa.gov.

3. Fax: (617) 918-0047.

4. Mail: “EPA-R01-OAR-2005-ME-0008”, Anne Arnold, U.S. Environmental Protection Agency, EPA New England Regional Office, One Congress Street, Suite 1100 (mail code CAQ), Boston, MA 02114-2023.

5. Hand Delivery or Courier: Deliver your comments to: Anne Arnold, Manager, Air Quality Planning Unit, Office of Ecosystem Protection, U.S. Environmental Protection Agency, EPA New England Regional Office, One Congress Street, 11th floor, (CAQ), Boston, MA 02114-2023. Such deliveries are only accepted during the Regional Office's normal hours of operation. The Regional Office's official hours of business are Monday through Friday, 8:30 to 4:30, excluding legal holidays.

Please see the direct final rule which is located in the Rules Section of this Federal Register for detailed instructions on how to submit comments.

FOR FURTHER INFORMATION CONTACT: Alison C. Simcox, Air Quality Planning Unit, U.S. Environmental Protection Agency, EPA New England Regional Office, One Congress Street, Suite 1100 (CAQ), Boston, MA 02114-2023, telephone number (617) 918-1684, fax number (617) 918-0684, e-mail simcox.alison@epa.gov.

SUPPLEMENTARY INFORMATION: In the Final Rules Section of this Federal Register, EPA is approving the State's SIP submittal as a direct final rule without prior proposal because the Agency views this as a noncontroversial submittal and anticipates no adverse comments. A detailed rationale for the approval is set forth in the direct final rule. If no adverse comments are received in response to this action, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

For additional information, see the direct final rule located in the Rules Section of this Federal Register.

Dated: January 16, 2008.
Robert W. Varney,
Regional Administrator, EPA, New England.

[FR Doc. E8-3302 Filed 2-20-08; 8:45 am]

BILLING CODE 6560-50-P